DEPARTMENT OF HEALTH AND HUMAN SERVICES

Centers for Disease Control and Prevention

[60Day-24-24AL; Docket No. CDC-2023-0089]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comment on a proposed information collection project titled Occupational exposures to surgical smoke in veterinary personnel which will characterize occupational exposure to surgical smoke and related respiratory health effects in clinical veterinary settings and provide guidance on engineering controls to improve air quality in veterinary medicine/animal care personnel's work environment by reducing exposure to surgical smoke.

DATES: CDC must receive written comments on or before January 2, 2024.

ADDRESSES: You may submit comments, identified by Docket No. CDC-2023-0089 by either of the following methods:

• Federal eRulemaking Portal: www.regulations.gov. Follow the instructions for submitting comments.

• Mail: Jeffrey M. Zirger, Information Collection Review Office, Centers for Disease Control and Prevention, 1600 Clifton Road, NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road, NE, MS H21-8, Atlanta, Georgia 30329; Telephone: 404-639-7570; Email: omb@cdc.gov.

SUPPLEMENTARY INFORMATION:

Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Occupational Exposures to Surgical Smoke in Veterinary Personnel—New—National Institute for Occupational Safety and Health (NIOSH), Centers for Disease Control and Prevention (CDC).

Background and Brief Description

Surgical smoke produced during tissue cutting and cauterizing tissues and blood vessels generates hazardous gaseous compounds and aerosols that are associated with cancer and respiratory irritation; however, no research has characterized surgical smoke generated from animal tissue in clinical veterinary settings. Surgical smoke exposure is an emerging concern in human operating rooms, and several states have either passed or are considering bills requiring surgical smoke evacuation systems in human operating rooms to mitigate this occupational hazard. Surgical suites in veterinary clinics are often multiple bay suites or have less effective ventilation systems than human operating rooms, potentially leading to higher exposure levels, yet no research has examined barriers and aids to the use of surgical smoke evacuation systems among veterinary medicine/animal care (VM/AC) personnel.

The proposed project will characterize occupational exposure to surgical smoke and related respiratory health effects in clinical veterinary settings. Data will be used to examine: (1) work-related factors that contribute to exposure to surgical smoke in clinical veterinary settings; (2) relationships between surgical smoke exposure in clinical veterinary settings and respiratory health; and (3) barriers and aids to implementing surgical smoke extraction systems that reduce occupational exposures to surgical smoke. Findings from this study will help to provide guidance on engineering controls to improve air quality in VM/AC personnel's work environment by reducing exposure to surgical smoke.

Three veterinary teaching hospitals and a national network of community veterinary clinics have been recruited to participate in this research. Participating VM/AC personnel at collaborating field study sites will complete: (1) a baseline questionnaire that collects data on demographics, work history, job tasks, exposures to respiratory hazards (including surgical smoke), use of personal protective equipment, workplace safety climate, and respiratory health and symptoms; and (2) a post-shift questionnaire assessing acute respiratory symptoms and job tasks during the work shift.

CDC requests OMB approval for an estimated 59 annual burden hours. There are no costs to respondents other than their time to participate.

Estimated Annualized Burden Hours
Type of respondents | Form name | Number of respondents | Number of responses per respondent | Average burden per response (in hours) | Total burden (in hours)
VM/AC personnel | Baseline Questionnaire | 33 | 1 | 28/60 | 15
VM/AC personnel | Post-shift Questionnaire | 33 | 10 | 8/60 | 44
Total |  |  |  |  | 59

Jeffrey M. Zirger,
Lead, Information Collection Review Office, Office of Public Health Ethics and Regulations, Office of Science, Centers for Disease Control and Prevention.

[FR Doc. 2023-24345 Filed 11-2-23; 8:45 am]

BILLING CODE 4163-18-P